DEPARTMENT OF THE TREASURY

Submission for OMB Review; Comment Request

August 14, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 22, 2003, to be assured of consideration.

Internal Revenue Service (IRS)

OMB Number: 1545-0129.

Form Number: IRS Form 1120-POL.

Type of Review: Extension.

Title: U.S. Income Tax Return for Certain Political Organizations.

Description: Certain political organizations file Form 1120-POL to report the tax imposed by section 527. The form is used to designate a principal business campaign committee that is subject to a lower rate of tax under section 527(h). IRS uses Form 1120-POL to determine if the proper tax was paid.

Respondents: Not-for-profit institutions.

Estimated Number of Respondents/Recordkeepers: 6,527.

Estimated Burden Hours per Respondent/Recordkeeper:

Recordkeeping—17 hr., 13 min.

Learning about the law or the form—5 hr., 15 min.

Preparing the form—12 hr., 17 min.

Copying, assembling, and sending the form to the IRS—1 hr., 52 min.

Frequency of Response: Annually.

Estimated Total Reporting/Recordkeeping Burden: 239,150 hours.

OMB Number: 1545-0935.

Form Number: IRS Form 1120-FSC and Schedule P (1120-FSC).

Type of Review: Revision.

Title: U.S. Income Tax Return of a Foreign Sales Corporation (Form 1120-FSC); and Transfer Price or Commission (Schedule P).

Description: Form 1120-FSC is filed by foreign corporations that have elected to be FSCs or small FSCs. The FSC uses Form 1120-FSC to report income and expenses and to figure its tax liability. IRS uses Form 1120-FSC and Schedule P (Form 1120-FSC) to determine whether the FSC has correctly reported its income and expenses and figured its tax liability correctly.

Respondents: Business or other for-profit.

Estimated Number of Respondents/Recordkeepers: 5,000.

Estimated Burden Hours per Respondent/Recordkeeper:

| 1120-FSC | Schedule P (1120-FSC)
Recordkeeping | 94 hr., 13 min | 9 hr., 48 min.
Learning about the law or the form | 19 hr., 45 min | 1 hr., 29 min.
Preparing and sending the form to the IRS | 38 hr., 56 min | 1 hr., 43 min.

Frequency of Response: Annually.

Estimated Total Reporting/Recordkeeping Burden: 1,089,900 hours.

OMB Number: 1545-0956.

Form Number: IRS Form 5500-EZ.

Type of Review: Revision.

Title: Annual Return of One-Participant (Owners and Their Spouses) Retirement Plan.

Description: Form 5500-EZ is an annual return filed by a one-participant or one-participant and spouse pension plan. The IRS uses this data to determine if the plan appears to be operating properly as required under the law or whether the plan should be audited.

Respondents: Business or other for-profit.

Estimated Number of Respondents/Recordkeepers: 250,000.

Estimated Burden Hours per Respondent/Recordkeeper:

Recordkeeping—18 hr., 10 min.

Learning about the law or the form—2 hr., 49 min.

Preparing the form—5 hr., 6 min.

Copying, assembling, and sending the form to the IRS—32 min.

Frequency of Response: Annually.

Estimated Total Reporting/Recordkeeping Burden: 6,660,000 hours.

OMB Number: 1545-1444.

Form Number: IRS Form 8844.

Type of Review: Revision.

Title: Empowerment Zone Employment Credit.

Description: Employers who hire employees who live and work in one of the 11 designated empowerment zones can receive a tax credit for the first $15,000 of wages paid to each employee. The credit is applicable from the date of designation through the year 2004.

Respondents: Business or other for-profit Individuals or households, Not-for-profit institutions, Farms.

Estimated Number of Respondents/Recordkeepers: 40,000.

Estimated Burden Hours per Respondent/Recordkeeper:

Recordkeeping—10 hr., 2 min.

Learning about the law or the form—2 hr., 10 min.

Preparing and sending the form to the IRS—2 hr., 26 min.

Frequency of Response: Annually.

Estimated Total Reporting/Recordkeeping Burden: 586,800 hours.

OMB Number: 1545-1606.

Form Number: IRS Form 8860.

Type of Review: Extension.

Title: Qualified Zone Academy Bond Credit.

Description: A qualified zone academy bond is a taxable bond issued after 1997 by a state or local government, with the proceeds used to improve certain eligible public schools. In lieu of receiving interest payments from the issuer, an eligible holder of the bond is generally allowed an annual income tax credit. Eligible holders of qualified zone academy bonds use Form 8860 to figure and claim this credit.

Respondents: Business or other for-profit, State, local or Tribal Government.

Estimated Number of Respondents/Recordkeepers: 50.

Estimated Burden Hours per Respondent/Recordkeeper:

Recordkeeping—6 hr., 56 min.

Learning about the law or the form—18 min.

Preparing and sending the form to the IRS—25 min.

Frequency of Response: Annually.

Estimated Total Reporting/Recordkeeping Burden: 383 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Mary A. Able,
Departmental Reports, Management Officer.

[FR Doc. 03-21403 Filed 8-20-03; 8:45 am]

BILLING CODE 4830-01-P